DEPARTMENT OF TRANSPORTATION

Federal Aviation Administration

Nineteenth Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the nineteenth meeting of RTCA Special Committee 213, Enhanced Flight Vision Systems/Synthetic Vision Systems (EFVS/SVS).

DATES: The meeting will be held July 17-19, 2012, from 9:00 a.m.-5:00 p.m.

ADDRESSES: The meeting will be held at RTCA, Inc., 1150 18th Street, NW., Suite 910, Washington, DC, 20036.

FOR FURTHER INFORMATION CONTACT: The RTCA Secretariat, 1150 18th Street, NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 213. The agenda will include the following:

Tuesday, July 17, 2012

Plenary Discussion (Sign in at 9:00 a.m.)

• Introductions and administrative items

• Review and approve minutes from last full plenary meeting

• Review of updated terms of reference—submitted to June PMC

• Provide Comment Resolution of Document—Draft DO-XXX, Minimum Aviation Performance Standards (MASPS) for an Enhanced Flight Vision System to Enable All-Weather Approach, Landing and Roll-Out to a Safe Taxi Speed

Wednesday, July 18

Plenary Discussion (9:00 a.m.-5:00 p.m.)

• Provide Comment Resolution of Document—Draft DO-XXX, Minimum Aviation Performance Standards (MASPS) for an Enhanced Flight Vision System to Enable All-Weather Approach, Landing and Roll-Out to a Safe Taxi Speed

Thursday, July 19

Plenary Discussion (9:00 a.m.-4:00 p.m.)

• Consider/Approve FRAC Draft for PMC Consideration—Draft DO-XXX, Minimum Aviation Performance Standards (MASPS) for an Enhanced Flight Vision System to Enable All-Weather Approach, Landing and Roll-Out to a Safe Taxi Speed

• Administrative items

• Meeting Adjourned

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 11, 2012.
David Sicard,
Manager, Business Operations Branch, Federal Aviation Administration.

[FR Doc. 2012-14789 Filed 6-15-12; 8:45 am]

BILLING CODE 4910-13-P